FEDERAL MARITIME COMMISSION

Sunshine Act Meeting

TIME AND DATE: August 18, 2020; 10:00 a.m.

PLACE: 800 N Capitol Street NW, First Floor Hearing Room, Washington, DC.

STATUS: Closed.

MATTERS TO BE CONSIDERED: Closed Session.

1. Enforcement Process and Pending Matters.

CONTACT PERSON FOR MORE INFORMATION: Rachel Dickon, Secretary, (202) 523-5725.

Rachel Dickon,
Secretary.

[FR Doc. 2020-17843 Filed 8-12-20; 11:15 am]

BILLING CODE 6731-AA-P